DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Ghost Native-PAGE With Colorless Compound Derived From Coomassie Brilliant Blue

Description of Technology: Protein staining dyes such as serva blue G or Coomassie blue are used to enhance the separation of protein complexes by binding to the proteins and differentially enhancing the net charge of the complexes improving the separation of the complexes using electrophoresis procedures. However, the intense blue color of Coomassie stains interferes with immunobloting and in gel colormetric or fluorescent studies. Available for licensing and commercial development is a colorless molecule that will bind and enhance the differential surface charge on protein complexes. The molecule has been demonstrated to work as well as Coomassie blue but will not interfere in gel assays critical for most investigations. This approach provides biochemists interested in protein complexes in biological tissues with the ability to separate protein complexes and perform in gel assays saving time and resources in this important emerging field.

The compound and methods of its use is for polyacrylamide gel electrophoresis (PAGE) and related gel techniques for the analysis of protein complexes and defects in the same. Such analysis can be extended to the detection of various diseases, e.g., Alzheimer's disease or Parkinson's disease. One such compound has the following formula:

Applications: Alzheimer's disease diagnostics; Parkinson's disease diagnostics.

Market: Protein-protein interaction biochemistry.

Development Status: Early-stage.

Inventors: Robert Balaban (NHLBI), Gary Griffiths (NHLBI), Ksenia Blinova (NHLBI), et al.

Publications:

1. MM Camacho-Carvajal, et al. Two-dimensional Blue native/SDS gel electrophoresis of multi-protein complexes from whole cellular lysates: a proteomics approach. Mol Cell Proteomics. 2004 Feb; 3(2):176-182.

2. R Van Coster, et al. Blue native polyacrylamide gel electrophoresis: a powerful tool in diagnosis of oxidative phosphorylation defects. Pediatr Res. 2001 Nov; 50(5):658-665.

3. I Whittig and H Schagger. Advantages and limitations of clear-native PAGE. Proteomics. 2005 Nov; 5(17):4338-4346.

Patent Status: U.S. Provisional Application No. 60/835,069 filed 03 Aug 2006 (HHS Reference No. E-218-2006/0-US-01).

Licensing Status: Available for exclusive or non-exclusive licensing.

Licensing Contact: Michael A. Shmilovich, Esq.; 301/435-5019; shmilovm@mail.nih.gov.

In Vivo Non-Invasive Diagnostic Method Using Magnetic Resonance Spectroscopy of Aspartate Transaminase

Description of Technology: This invention describes a method for non-invasively diagnosing various diseases using magnetic resonance spectroscopy of aspartate transaminase (AST). The diagnostic market is a multi-billion dollar market, with a need for more efficient non-invasive techniques, markers and methods of diagnosis.

In particular, this is a novel non-invasive method for using carbon-13 magnetization transfer effects to determine and evaluate in vivo aspartate transaminase (AST) activity and levels in an organ, including the brain, as a biomarker of disease and certain neurological disorders. This comprises performing in vivo magnetization transfer spectroscopy, and determining the change in magnetic resonance signal intensity of reactants in AST catalyzed reaction.

AST activity is known to change as a result of tissue damage and necrosis in a variety of diseases. AST activity is routinely assessed in serum of patients as a non-invasive means of identifying and following up on disease progression. Furthermore, brain levels of AST are altered in certain diseases such as Huntington's Disease, olivopontocerebellar atrophy and epilepsy, but the blood-brain barrier prevents AST from entering serum and being readily measured. Brain AST levels in living patients can be measured by brain biopsies, which are expensive and dangerous. This invention overcomes this problem by measuring AST activity in the brain by using magnetization transfer effect. This can help diagnose or follow up on the progress of a variety of diseases, including Huntington's Disease, olivopontocerebellar atrophy, epilepsy, schizophrenia, as well as hepatitis, cirrhosis, cholangitis, Gilbert's diseases, muscular dystrophy, leukemia, kidney inflammation, cardiac infarction, or the presence of a tumor. Thus, tissue AST activity may become a novel marker of brain disorders which has been inaccessible using current clinical technologies.

Applications and Market: Diagnosis and monitoring disease status in a variety of diseases, including Huntington's Disease, olivopontocerebellar atrophy, epilepsy, schizophrenia, as well as hepatitis, cirrhosis, cholangitis, Gilbert's diseases, muscular dystrophy, leukemia, kidney inflammation, cardiac infarction, or the presence of a tumor. The diagnostic market is a multi-billion dollar market, with a need for more efficient non-invasive techniques, markers and new methods of diagnosis.

Patent Status: U.S. Patent Application No. 11/356,214 filed 21 Feb 2006 (HHS Reference No. E-231-2005/0-US-02).

Inventors: Dr. Jun Shen (NIMH).

Publication: J Shen. In vivo carbon-13 magnetization transfer effect: detection of aspartate aminotransferase reaction. Magn Reson Med. 2005 Dec; 54(6):1321-1326.

Licensing Status: Available for exclusive or non-exclusive licensing.

Licensing Contact: Chekesha Clingman, Ph.D.; 301/435-5018; clingman@mail.nih.gov.

Dated: August 29, 2006.
Steven M. Ferguson,
Director, Division of Technology Development and Transfer, Office of Technology Transfer, National Institutes of Health.

[FR Doc. 06-7439 Filed 9-5-06; 8:45 am]

BILLING CODE 4140-01-P